DEPARTMENT OF THE TREASURY

Customs Service

19 CFR Part 101

[T.D. 00-27]

Technical Correction; Description of Gramercy, Louisiana, Boundaries

AGENCY: U.S. Customs Service, Department of the Treasury.

ACTION: Final rule.

SUMMARY: This document amends the Customs Regulations pertaining to the field organization of Customs by correcting the boundary description of Gramercy, Louisiana.

EFFECTIVE DATE: April 20, 2000.

FOR FURTHER INFORMATION CONTACT: Harold Singer, Chief, Regulations Branch, U.S. Customs Service, 202-927-2268.

SUPPLEMENTARY INFORMATION:

Background

Customs established a port of entry of Gramercy, Louisiana, by a final rule document published as Treasury Decision (T.D.) 82-93 in the Federal Register (47 FR 21039) on May 17, 1982. A description of the port of entry was set forth in the document.

On May 31, 1984, Customs published in the Federal Register (49 FR 22629) T.D. 84-126, a final rule document setting forth the port limits of all the ports in the then New Orleans Customs district. One of the ports, of which the boundaries were described, was Gramercy, Louisiana. The document extended the limits of the Gramercy port from those set forth in T. D. 82-93.

In a document published in the Federal Register (49 FR 27142) on July 2, 1984, Customs delayed the effective date of T.D. 84-126 regarding the extension of the port boundaries of Gramercy. This document stated that “[t]he listing for Gramercy shall remain as set forth in section 101.3(b), Customs Regulations,” meaning that the description of the Gramercy port would continue to be as set forth in T.D. 82-93.

The Customs Regulations correctly reflected that the port limits of Gramercy were as set forth in T.D. 82-93 until T.D. 95-77 was published in the Federal Register (60 FR 50008) on September 27, 1995. In that document, which included a revision of section 101.3 to reflect the reorganization of Customs, the reference to T.D. 84-126 was inadvertently inserted in the “Limits of port “ column next to the listing of the port of entry of Gramercy under the State of Louisiana.

This document corrects the error by removing the reference “(Restated in T.D. 84-126)” in the “Limits of port” column adjacent to the entry of Gramercy in the “Ports of entry column” under the State of Louisiana in section 101.3(b), Customs Regulations.

Inapplicability of Public Notice and Comment and Delayed Effective Date

Because this document relates to agency organization and management and merely corrects the geographical description of a port, it is not subject to the notice and public procedure requirements of 5 U.S.C. 553. For the same reasons, pursuant to 5 U.S.C. 553(d)(3), a delayed effective date is not required.

Regulatory Flexibiilty Act

Because this document is not subject to the notice and public procedure requirements of 5 U.S.C. 553, this document is not subject to the provisions of the Regulatory Flexibility Act (5 U.S.C. 601 et seq.).

Executive Order 12866

Agency organization matters are exempt from consideration under Executive Order 12866.

Drafting Information

The principal author of this document was Janet L. Johnson. However, personnel from other offices participated in its development.

List of Subjects in 19 CFR Part 101

Customs duties and inspection, Customs ports of entry, Exports, Imports, Organization and functions (Government agencies).

Amendment to the Regulations

Accordingly, Part 101 of the Customs Regulations is amended as set forth below.

PART 101—GENERAL PROVISIONS

1. The general authority citation for Part 101 and the specific authority citation for § 101.3 continue to read as follows:

Authority: 5 U.S.C. 301, 19 U.S.C. 2, 66, 1202 (General Note 20, Harmonized Tariff Schedule of the United States), 1623, 1624.

Sections 101.3 and 101.4 also issued under 19 U.S.C. 1 and 58b;

* * * * *

§ 101.3 [Amended]

2. The list of ports in § 101.3(b)(1) is amended, under the State of Louisiana in the entry for Gramercy, by removing in the “Limits of port” column the words “(Restated in T.D. 84-126).”

Dated: April 14, 2000.
Stuart P. Seidel,
Assistant Commissioner, Office of Regulations and Rulings.

[FR Doc. 00-9868 Filed 4-19-00; 8:45 am]

BILLING CODE 4820-02-P